DEPARTMENT OF TRANSPORTATION

Federal Motor Carrier Safety Administration

[Docket No. FMCSA-2019-0244]

Parts and Accessories Necessary for Safe Operation; Application for an Exemption From Lytx Inc.

AGENCY: Federal Motor Carrier Safety Administration (FMCSA), DOT.

ACTION: Notice of correction.

SUMMARY: FMCSA corrects the permissible mounting location for Lytx, Inc.'s (Lytx) advanced driver assistance systems (ADAS) in the windshield of commercial motor vehicles (CMV), as identified in a May 21, 2020, notice of final disposition granting a limited five-year exemption to motor carriers utilizing the Lytx ADAS.

DATES: This correction is applicable June 24, 2020.

FOR FURTHER INFORMATION CONTACT: Mr. José R. Cestero, Vehicle and Roadside Operations Division, Office of Carrier, Driver, and Vehicle Safety, MC-PSV, (202) 366-5541, Federal Motor Carrier Safety Administration, 1200 New Jersey Avenue SE, Washington, DC, 20590-0001. If you have questions regarding viewing or submitting material to the docket, contact Docket Operations, (202) 366-9826.

SUPPLEMENTARY INFORMATION: On May 21, 2020 (85 FR 31021), FMCSA published a notice granting a limited 5-year exemption to allow motor carriers to mount the Lytx ADAS lower in the windshield than is currently permitted by the Agency's regulations. In its exemption application, Lytx stated that the ADAS needs to be mounted approximately 204 mm (8 inches) below the upper edge of the windshield wipers to utilize a mounting location that allows optimal functionality of the camera system. In evaluating the Lytx application and the public comments received, FMCSA agreed that the camera system needs to be mounted in this location because the size of the camera system precludes mounting it (1) higher in the windshield, and (2) within 4 inches from the top of the area swept by the windshield wipers to comply with the regulations.

However, in the “Terms and Conditions for the Exemption” section of the May 21 notice of final disposition, FMCSA inadvertently stated that during the temporary exemption period, motor carriers using the Lytx ADAS must ensure that the bottom edge of the camera housing is mounted such that it is approximately 8 inches below the upper edge of the windshield, instead of 8 inches below the upper edge of the area swept by the windshield wipers.

The corrected text should read “During the temporary exemption period, motor carriers will be allowed to operate CMVs equipped with Lytx's ADAS in the approximate center of the top of the windshield and such that the bottom edge of the camera housing is approximately 8 inches below the upper edge of the area swept by the windshield wipers, outside of the driver's and passenger's normal sight lines to the road ahead, highway signs and signals, and all mirrors.”

Larry W. Minor,
Associate Administrator for Policy.

[FR Doc. 2020-13600 Filed 6-23-20; 8:45 am]

BILLING CODE 4910-EX-P